DEPARTMENT OF COMMERCE

National Oceanic and Atmospheric Administration

50 CFR Part 622

[Docket No. 140214145-5582-02]

RIN 0648-BD81

Fisheries of the Caribbean, Gulf of Mexico, and South Atlantic; Coral, Coral Reefs, and Live/Hard Bottom Habitats of the South Atlantic Region; Amendment 8

AGENCY: National Marine Fisheries Service (NMFS), National Oceanic and Atmospheric Administration (NOAA), Commerce.

ACTION: Final rule.

SUMMARY: NMFS issues this final rule to implement Amendment 8 to the Fishery Management Plan for Coral, Coral Reefs, and Live/Hard Bottom Habitats of the South Atlantic Region (FMP) (Amendment 8), as prepared by the South Atlantic Fishery Management Council (Council). This final rule expands portions of the northern and western boundaries of the Oculina Bank Habitat Area of Particular Concern (HAPC) (Oculina Bank HAPC) and allows transit through the Oculina Bank HAPC by fishing vessels with rock shrimp onboard; modifies vessel monitoring system (VMS) requirements for rock shrimp fishermen transiting through the Oculina Bank HAPC with rock shrimp on aboard; expands a portion of the western boundary of the Stetson Reefs, Savannah and East Florida Lithoherms, and Miami Terrace Deepwater Coral HAPC (CHAPC) (Stetson-Miami Terrace CHAPC), including modifications to the shrimp access area A, which is renamed “shrimp access area 1”; and expands a portion of the northern boundary of the Cape Lookout Lophelia Banks Deepwater CHAPC (Cape Lookout CHAPC). In addition, this rule makes a minor administrative change to the names of the shrimp fishery access areas. The purpose of this rule is to increase protections for deepwater coral based on new information for deepwater coral resources in the South Atlantic.

DATES: This rule is effective August 17, 2015.

ADDRESSES: Electronic copies of Amendment 8, which includes an environmental assessment and a regulatory impact review, may be obtained from the Southeast Regional Office Web site at http://sero.nmfs.noaa.gov/sustainable_fisheries/s_atl/coral/index.html.

Comments regarding the burden-hour estimates or other aspects of the collection-of-information requirements contained in this final rule may be submitted in writing to Anik Clemens, Southeast Regional Office, NMFS, 263 13th Avenue South, St. Petersburg, FL 33701; and OMB, by email at OIRA Submission@omb.eop.gov, or by fax to 202-395-7285.

FOR FURTHER INFORMATION CONTACT: Karla Gore, Southeast Regional Office, telephone: 727-824-5305.

SUPPLEMENTARY INFORMATION: South Atlantic coral is managed under the FMP. The FMP is implemented under the authority of the Magnuson-Stevens Fishery Conservation and Management Act (Magnuson-Stevens Act) by regulations at 50 CFR part 622.

On May 20, 2014, NMFS published a notice of availability for Amendment 8 and requested public comment (79 FR 28880). On July 3, 2014, NMFS published a proposed rule for Amendment 8 and requested public comment (79 FR 31907). Subsequently, NMFS published a correction to the notice of availability (79 FR 37269, July 1, 2014) and the proposed rule (79 FR 37270, July 1, 2014) to correct an error in the size of the Oculina Bank HAPC. The proposed rule and NOA stated that the size of the Oculina Bank HAPC would expand “by 405.42 square miles (1,050 square km), for a total area of 694.42 square miles (1,798.5 square km) . . .” However, this was incorrect. The published corrections explained that the increase in size of the Oculina Bank HAPC would be 343.42 square miles (889.5 square km), for a total area of 632.42 square miles (1,638 square km). The Secretary approved the amendment on August 18, 2014. The proposed rule and Amendment 8 set forth the rationale for the actions contained in this final rule. A summary of the actions implemented by this final rule is provided below.

Management Measures Contained in This Final Rule

This final rule expands the boundaries of the Oculina Bank HAPC and allows transit through the Oculina Bank HAPC by fishing vessels with rock shrimp onboard; modifies the VMS requirements for rock shrimp fishermen transiting the Oculina Bank HAPC; expands the boundaries of the Stetson-Miami Terrace CHAPC, the adjacent shrimp fishery access area, and the Cape Lookout CHAPC; and makes a minor administrative change to the names of the shrimp fishery access areas. The purpose of these measures is to provide better protection for deepwater coral ecosystems.

Expansion of Oculina Bank HAPC

This final rule increases the size of the Oculina Bank HAPC by 343.42 square miles (889.5 square km), for a total area of 632.42 square miles (1,638 square km) and, except for a limited transit provision described below, extends the current prohibitions to the larger area, and increases protection of coral. The prohibitions for the Oculina Bank include the following: It is unlawful to use a bottom longline, bottom trawl, dredge, pot or trap, and if aboard a fishing vessel it is unlawful to anchor, use an anchor and chain, or use a grapple and chain. Additionally, it is unlawful to fish for or possess rock shrimp in or from the Oculina Bank HAPC on board a fishing vessel.

Transit Provision With Rock Shrimp on Board Through Oculina Bank HAPC

This final rule establishes a transit provision to allow fishing vessels with rock shrimp onboard to transit the Oculina Bank HAPC under limited circumstances. To be considered to be in transit and thus allowed to possess rock shrimp on board a vessel in the Oculina Bank HAPC, a vessel must have a valid commercial permit for rock shrimp, the vessel's gear must be appropriately stowed (i.e., doors and nets are required to be out of water and onboard the deck or below the deck of the vessel), and the vessel must maintain a direct and non-stop continuous course through the HAPC at a minimum speed of 5 knots, as determined by an operating VMS approved for the South Atlantic rock shrimp fishery onboard the vessel. In addition, this rule modifies the VMS requirements to require all vessels with rock shrimp onboard that choose to transit the Oculina Bank HAPC to have a VMS unit that registers a VMS ping (signal) rate of 1 ping per 5 minutes. As discussed in the proposed rule, not all VMS units used on the vessels in the rock shrimp fishery were expected to be able to meet the ping rate requirement. As a result, some vessels were expected to have to reconfigure or upgrade their unit, or purchase a new unit, in order to be able to transit the Oculina Bank HAPC within this exception. However, since publication of the proposed rule, NMFS has determined that all vessels have VMS units that are capable of registering a VMS ping (signal) rate of 1 ping per 5 minutes, however, they will incur higher communication costs for this ping rate if they choose to transit the Oculina Bank HAPC with rock shrimp onboard. These communication costs will be offset by not incurring the costs associated with having to transit around the HAPC to get to or from the fishing grounds. This transit provision allows rock shrimp fishermen with rock shrimp onboard their vessels to travel to and from additional rock shrimp fishing grounds in less time using less fuel than if the fishermen are required to travel around the Oculina Bank HAPC.

Expansion of the Stetson-Miami Terrace CHAPC and the Cape Lookout CHAPC

This final rule increases the size of the Stetson-Miami Terrace CHAPC by 490 square miles (1,269 square km), for a total area of 24,018 square miles (62,206 square km), and increases the size of the Cape Lookout CHAPC by 10 square miles (26 square km), for a total area of 326 square miles (844 square km), and extends the current CHAPC gear prohibitions to the larger areas to increase protection of deepwater coral ecosystems. The prohibitions for the CHAPCs include the following: It is unlawful to use a bottom longline, trawl (mid-water or bottom), dredge, pot or trap, and if aboard a fishing vessel, it is unlawful to anchor, use an anchor and chain, or use a grapple and chain. Additionally, it is unlawful to fish for or possess coral in or from the CHAPCs on board a fishing vessel.

Additionally, the expansion of the Stetson-Miami Terrace CHAPC provides royal red shrimp fishermen a new zone adjacent to the existing shrimp access area A (renamed “shrimp access area 1”, as discussed in the next section of this preamble) within which they can haul-back fishing gear without drifting into an area where their gear is prohibited. Thus, this rule expands the shrimp fishery access area to include the new haul-back zone.

Other Changes to Regulatory Text

This rule also revises the names of the shrimp fishery access areas, from “shrimp access area A-D” to “shrimp access area 1-4”, in the regulations implemented through the Comprehensive Ecosystem-Based Amendment 1 (75 FR 35330, June 22, 2010) to more closely match the names in the FMP. This final rule also revises 50 CFR 622.224(c)(3)(i)-(iv), to change the four shrimp fishery access areas titles.

Comments and Responses

NMFS received a total of 35 comment letters on Amendment 8 and the proposed rule, which include letters from a Federal agency, an environmental organization, private citizens, recreational fishermen, commercial fishermen, and fishing associations. Five letters expressed support for the amendment and three letters were unrelated to the actions in Amendment 8. One comment letter was signed by 257 members of the rock shrimp fishing industry and opposed the implementation of the amendment. The specific comments on the actions contained in Amendment 8 and the proposed rule and NMFS's respective responses, are summarized below.

Comment 1: Amendment 8 is not based upon the best scientific information available because the analysis to determine the location of fishing and the socio-economic impacts of proposed extensions to the HAPCs was based on VMS data. The assumption that each VMS point should be given equal value is incorrect. Amendment 8 should have included trawl track data generated from WinPlot™ software matched up to trip ticket information from the state of Florida. Trawl track data, instead of VMS data, may be more easily correlated with trip ticket information to determine location and value of catches.

Response: NMFS disagrees that Amendment 8 was not based on the best scientific information available. NMFS requires a VMS onboard each rock shrimp fishing vessel to determine where the fishing vessel is fishing and provides this information through VMS generated trawl track data. NMFS does not require trawl track data generated by WinPlot™ or any other proprietary tracking or monitoring system. Thus, VMS data were used in Amendment 8 to determine location of fishing effort and economic impacts, and NMFS has determined that Amendment 8 used the best scientific information available.

WinPlot™ is charting software used by some fishermen in the rock shrimp fishery in addition to the required VMS. It is unknown if all rock shrimp fishermen are using Winplot™ software or if they all are recording the same information for each trawl or trip. Trawl track information from WinPlot™ represents self-reported data for which there are no standardized data elements, and there would be limited utility of trying to use WinPlot™ trawl track data for socio-economic analysis. Instead, the data from the required VMS units were used to determine the socio-economic impacts. The analysis considered the percentage of VMS points on average that occur in the area that would become closed to rock shrimp fishing. Rock shrimp landings information cannot be associated to each VMS data point. As a result, any assessment of the expected effects of the Oculina Bank HAPC expansion requires an assumption of how harvest is expected to be distributed over the area encompassed by the expansion. NMFS has determined that the assumption that the harvest of rock shrimp occurs uniformly across each VMS data point is reasonable.

Comment 2: The rock shrimp industry (vessels, restaurants, processors, fish houses, fuel companies, freight companies, crews, dock workers, etc.) will suffer significant economic impacts if the northern expansion of the Oculina Bank HAPC in Amendment 8 is implemented.

Response: The northern expansion of the Oculina Bank HAPC may have adverse economic effects on some individual businesses associated with the rock shrimp industry; however, NMFS disagrees that the industry will suffer significant economic impacts due to the variable nature of rock shrimp harvest. The average annual revenue from rock shrimp harvest over the period 2007-2012 was $1.92 million (2012 dollars), but ranged from a low of approximately $442,000 in 2007 to a high of approximately $3.89 million in 2008. In 2012, the most recent year for which final data were available at the time of completion of Amendment 8, the rock shrimp revenue was approximately $501,000. Thus, the economic performance of the industry is quite variable and the associated businesses, on average, would be expected to be economically flexible by necessity. For rock shrimp harvesters, this flexibility is demonstrated by the fact that, on average, the majority of annual fishing revenue comes from other species. Over the period 2009, 2010, and 2011, rock shrimp accounted for 27 percent, 22 percent, and 13 percent of the average total fishing revenue per vessel in each year, respectively. Comparable data for more recent years are not available. For rock shrimp harvesters, penaeid shrimp harvested in the South Atlantic was the highest revenue species in each year, ranging from 43 percent in 2011 to 63 percent in 2009. Additionally, although there are an estimated 104 vessels permitted to harvest rock shrimp, the number of vessels that actually harvest rock shrimp in the South Atlantic is substantially less. During 2009, 2010, and 2011, only 31, 19, and 18 vessels harvested rock shrimp in the South Atlantic in these years, respectively, and the production results provided above reflect the estimated average performance of these vessels. These results demonstrate, on average, that although the revenue from rock shrimp comprises a substantial portion of total annual revenue, rock shrimp fishermen are more dependent on other species.

In addition to analyzing the relative importance of rock shrimp revenue within the total fishing revenue, the significance of any economic effects will be determined by the expected reduction in rock shrimp harvest. It is not possible to determine with certainty the reduction in rock shrimp harvest that may occur as a result of the proposed expansion of the Oculina Bank HAPC because available data does not allow for the tabulation of rock shrimp harvest per tow, and the harvest area is recorded by statistical grid (60 nautical miles squared). Additionally, the distribution and abundance of rock shrimp in any area is highly variable from year to year. Although anecdotal information made available through public comment may suggest higher rock shrimp yields in the northern expansion of the Oculina Bank HAPC in 2013, sufficient information is not available to conclude this higher abundance of rock shrimp will persist or that it is more representative of future conditions than the historic average. Further, it has not been shown that the northern expansion of the Oculina Bank HAPC is the source of substantial rock shrimp harvest in years when total rock shrimp harvests have been high. In the absence of harvest data per tow, the assessment of the expected reduction in rock shrimp harvest was based on the assumption that rock shrimp harvest is uniformly distributed over the statistical grid and, thus, the reduction in harvest as a result of the northern expansion of the Oculina Bank HAPC would be proportionate to the amount of area in the expansion relative to the area in the total statistical grid within which harvest is reported. Although this assumption may not capture the actual harvest that has occurred in the expansion area, or the potential higher productivity that may occasionally occur in future years, NMFS has determined this assumption is reasonable.

Comment 3: Does the analysis use all of the existing 678 commercial vessel permits for South Atlantic snapper-grouper, or only the vessel logbooks home ported nearest the Amendment 8 proposed expansions of the Oculina Bank HAPC areas from Fort Pierce north to St. Augustine, Florida, or only the logbooks of the vessels that indicated they fished in that area with landings as a metric of socio-economic impact in this analysis? The minimal impact description to the commercial snapper-grouper fleet contained in Amendment 8 is incorrect.

Response: The assessment of the socio-economic effects of the expansion of the Oculina Bank HAPC was based on the expected average harvest of snapper-grouper species in the area of the expansion over the period 2009-2011, as recorded in all logbooks regardless of where the respective vessels were home-ported. Because harvest is recorded by statistical grid (60 nautical miles squared) and is not available at finer geographic resolution, the expected reduction in snapper-grouper harvest was based on the assumption that snapper-grouper harvest is uniformly distributed over the area in the statistical grid and, thus, the reduction in harvest as a result of the northern expansion of the Oculina Bank HAPC would be proportionate to the amount of area in the expansion relative to the area in the total statistical grid within which harvest is reported. Although this assumption may not capture the actual harvest that has occurred in the proposed expansion area, NMFS has determined this assumption is reasonable.

Comment 4: The $189,464 average annual revenue loss estimate for the proposed northern and western extension to the Oculina Bank HAPC is too low. Rock shrimp abundance and distribution is extremely variable, and only recent information, rather than an average, should be used in the economic analysis. The estimated value of the catches in the area was approximately $1,000,000 for a subset of 6 vessels over a 3-week period in September 2013, which substantially transcends the average annual revenue loss of $189,464 for all vessels in the entire fishery over the entire fishing year, as set forth in Amendment 8.

Response: NMFS disagrees that the average annual revenue loss estimate for the proposed northern and western extension to the Oculina Bank HAPC is too low. Because rock shrimp are so variable over time and space, it is not appropriate to use only the most recent anecdotal information to determine the socio-economic effects of the proposed action. The Council approved Amendment 8 for review by the Secretary of Commerce at its September 2013 meeting. On November 6, 2013, the Council was informed in a letter about high landings of rock shrimp in the proposed northern extension of the Oculina Bank HAPC. Although anecdotal information made available through public comment may suggest higher rock shrimp yields in the northern extension of the Oculina Bank HAPC in 2013, sufficient information is not available for NMFS to conclude a higher abundance will persist and is more representative of future conditions than the historic average as previously discussed.

Comment 5: Amendment 8 is in violation of the National Environmental Policy Act (NEPA) because Action 1 did not consider a reasonable range of alternatives. Alternatives 2 and 3 are completely distinct from each other and modify different boundaries of the HAPC, thus Alternative 3 should be a separate action. Also, Alternative 2 had two sub-alternatives and Alternative 3 did not have any. Furthermore, the Purpose and Need section of Amendment 8 is focused on protection of deepwater coral and does not include any reference to minimizing, to the extent practicable, adverse economic impacts on the rock shrimp fishery.

Response: NMFS disagrees that Amendment 8 is in violation of NEPA. While Alternatives 2 and 3 under Action 1 consider modifications to the northern and western boundaries of the Oculina Bank HAPC, respectively, they fall within the scope of the action which is to “Expand Boundaries of the Oculina Bank HAPC.” Further, NEPA does not require that the Purpose and Need include a reference to minimizing economic impacts. According to NEPA, biological, economic, social and administrative impacts of the proposed actions should be analyzed and considered. These analyses in Amendment 8 used the best scientific information available and are included in Chapter 4 of the amendment, and were considered by the Council. The Council's adoption of a recommendation by their Deepwater Shrimp Advisory Panel for modification of the northern extension of the Oculina Bank HAPC, reduced fishery impacts where traditional fishing activity occurs. NMFS has determined that Amendment 8 and its implementing final rule will be effective in increasing the protection of deepwater coral while minimizing, to the extent practicable, adverse socio-economic impacts, as required by National Standard 8 of the Magnuson-Stevens Act.

Comment 6: The actions in the proposed rule indicate the Council and NMFS may have a misunderstanding of how a shrimp trawl works. The type of trawl used to catch rock shrimp is not designed to work in hard rocky bottom.

Response: A description of the rock shrimp fishing practices, vessels involved, and gear used can be found in Section 3 of Amendment 8. It was discussed at the November 2012 Habitat Advisory Panel and the December 2012 Council meetings that rock shrimp fishermen do not trawl on coral or hard-bottom coral habitat, but instead target rock shrimp on their preferred soft-bottom habitat where coral is not present.

Comment 7: The minutes from the October 2012 Joint Deepwater Shrimp and Coral Advisory Panels meeting were lost. At that meeting, an agreement was made between a scientist, a member of Council staff, and the chair of the Deepwater Shrimp Advisory Panel to develop a new alternative for the northern Oculina Bank HAPC extension for consideration by the Council. Because the minutes from the meeting were lost, there is no documentation of this agreement. An alternative for the northern Oculina Bank HAPC extension alternative was later developed without the input of the Deepwater Shrimp Advisory Panel Chair. Several hours were spent at the October 2012 meeting demonstrating and educating the Coral Advisory Panel about rock shrimping, the equipment used, and the process involved. The Coral Advisory Panel agreed with the Deepwater Shrimp Advisory Panel that rock shrimp trawls were not harming coral or coral habitats.

Response: The Coral and Deepwater Shrimp Advisory Panels met in Cape Canaveral, Florida, on October 18, 2012, and the Chair of the Deepwater Shrimp Advisory Panel presented an overview of the rock shrimp fishery. The verbatim minutes of that joint meeting were partially compromised and are incomplete because the afternoon session of the joint advisory panel meeting was not recorded and transcribed, due to an inadvertent, technical error. A new alternative for the northern Oculina Bank HAPC extension, developed by a Council staff member and a scientist following the October 2012 Joint Coral and Deepwater Shrimp Advisory Panel Meeting, was brought to the Council at their December 2012 meeting, and the Council added this new alternative to Amendment 8 at that meeting. The Chair of the Deepwater Shrimp Advisory Panel also attended the December 2012 Council meeting, and he indicated that some slight adjustments to the new alternative might be needed. During its May 2013 meeting, the Deepwater Shrimp Advisory Panel discussed the new alternative, and made a recommendation to further modify the boundaries to reduce fishery impacts in the area where traditional fishing activity occurs. Recognizing that rock shrimpers do not trawl on coral or hard-bottom habitat, the Council, at its June 2013 meeting, adopted the Deepwater Shrimp Advisory Panel's recommendation for the modified northern Oculina Bank HAPC extension alternative, and chose that alternative as its preferred alternative.

Comment 8: The public was not properly notified that a new and significant revision to the proposed closed area under Action 1, Alternative 2 would be discussed and considered by the Habitat Advisory Panel during its November 2012 meeting. Failure to provide timely notice of this new matter on the agenda for the Habitat Advisory Panel meeting made it difficult for the Chair of the Deepwater Shrimp Advisory Panel and members of the Habitat Advisory Panel to assist in the collection and evaluation of information relevant to the development of the new alternative.

Response: The Habitat and Environmental Protection Advisory Panel Meeting was announced in the Federal Register on October 29, 2012 (77 FR 65536). The announcement stated “Topics to be addressed at the meeting include: A member workshop on developing the South Atlantic Habitat and Ecosystem Atlas and Digital Dashboard, including the new online Ecospecies System; species research and habitat mapping associated with deepwater marine protected areas; deepwater habitat complexes associated with Coral Habitat Areas of Particular Concern (CHAPC) extension proposals; a review of a draft Memorandum of Understanding (MOU) between Atlantic Councils on deepwater coral ecosystem conservation; a review of other regional partner activities supporting the regional move to ecosystem-based management; and consideration of updates to essential fish habitat policy statements as needed.” Specific alternatives for actions in amendments are not usually contained in agendas for Advisory Panel meetings in Federal Register notices. However, a discussion of the actions and alternatives in Amendment 8 fits within the scope of the agenda and topics announced for discussion at the Habitat Advisory Panel meeting. Thus, the public was properly notified about the Habitat Advisory Panel Meeting in accordance with section 302(i)(2)(C) of the Magnuson-Stevens Act, and an additional Federal Register notice was not necessary.

Comment 9: Amendment 8 is not consistent with section 3.2.7 of the Council's Statement of Organization, Practices, and Procedures (SOPPs) because the Deepwater Shrimp Advisory Panel Chairman was denied the opportunity to make a presentation of the issues to be discussed at the November 2012 meeting of the Habitat Advisory Panel, including a new alternative for the northern Oculina Bank HAPC extension for consideration by the Council. This presentation could have been accommodated, at a minimum, during a public comment period during the advisory panel meeting.

Response: Section 3.2.7 of the Council's SOPPs states: “Public testimony will be allowed at Council meetings on all agenda items before the Council for final action and at advisory panel (AP) and Scientific and Statistical Committee (SSC) meetings on all agenda items. If the agenda does not schedule a time for public testimony, the chairperson or presiding officer shall schedule testimony at an appropriate time during the meeting that is consistent with the orderly conduct of business.” Although the Chair of the Deepwater Shrimp Advisory Panel was not provided the opportunity to make a presentation at the Habitat and Environmental Protection Advisory Panel Meeting, that Chair did provide public testimony on issues related to the northern extension of the Oculina Bank HAPC at the Habitat and Environmental Protection Advisory Panel Meeting in accordance with the Council's SOPPs, and with section 302(i)(2)(D) of the Magnuson-Stevens Act.

Comment 10: The SSC did not provide the Council any meaningful scientific advice on the social or economic impacts of the proposed management measures contained in Amendment 8. The SSC was not provided with timely or complete VMS data and other necessary data on the fishery and the proposed management measures.

Response: The SSC reviewed and discussed Amendment 8 at its April 2013 meeting. A report from that meeting states “By consensus the Committee agreed that the proposed actions that modify the CHAPCs succeed in addressing the Purpose and Need of Amendment 8 and, therefore, actions in Amendment 8 are warranted to protect coral in these areas.”

Comment 11: The rock shrimp industry requested that a transit implementation plan be put in place before the proposed northern extension area of the Oculina Bank HAPC is effective, in order to test the transit provision. A serious safety issue will be created for shrimpers working offshore of a closed area that extends from Ft. Pierce to St. Augustine without the ability to transit the area.

Response: The Council and NMFS determined that the expansion of the Oculina Bank HAPC and the establishment of a transit provision needed to be implemented simultaneously. As a result, the final rule will establish a provision to allow fishing vessels with rock shrimp onboard to transit the Oculina Bank HAPC. The expansion of the Oculina Bank HAPC and the transit provision will be effective 30 days after the final rule publishes.

Comment 12: The Council did not consider any other methods to protect deepwater coral habitat in Amendment 8 except to expand the HAPCs.

Response: The Council has protected deepwater coral ecosystems through fishing gear restrictions in HAPCs. The Oculina Bank HAPC was implemented in 1984, and the Stetson-Miami Terrace Coral HAPC and the Cape Lookout Coral HAPC were included in the Coral HAPCs that were implemented in 2010. Within the existing HAPCs, the use of bottom longline, bottom trawl, dredge, pot, or trap, as well as the use of an anchor, anchor and chain, or grapple and chain is prohibited if on board a fishing vessel. Within the Coral HAPCs, the use of a mid-water trawl is also prohibited. Fishing for or possessing rock shrimp or Oculina coral is prohibited within the Oculina Bank HAPC (this rule will allow transit through the Oculina Bank HAPC for rock shrimp fishermen with rock shrimp onboard their vessel), and fishing for or possessing coral is prohibited on board a fishing vessel in the Coral HAPCs. Recent scientific explorations have identified areas of high relief features and hard bottom habitat outside the boundaries of the existing Oculina Bank HAPC and Coral HAPCs. Deepwater coral are extremely fragile and slow growing, and any method to protect deepwater coral must involve restrictions on gear that may impact coral. The Council recommended expansion of existing HAPCs to provide protection to the newly discovered areas of deepwater coral. Other options such as a prohibition to all fishing could have been considered; however, the Council determined that prohibiting the use of gear that may impact coral through the expansion of HAPCs was the most appropriate method for protecting deepwater coral, while minimizing, to the extent practicable, negative socio-economic impacts.

Comment 13: Research dives found only two instances of deepwater coral, yet Amendment 8 proposes to close 267 square miles of historical trawling grounds in the northern extension of Oculina Bank HAPC. The Oculina Bank HAPC should not be expanded westward as there is no Oculina coral in that area. The new information does not justify such a large closure. The Oculina Bank HAPC is sufficiently large to protect deepwater coral ecosystems.

Response: In October 2011, a presentation was provided to the Council's Coral Advisory Panel on two new areas of high-relief Oculina coral mounds and hard bottom habitats that had been discovered north and west of the current boundaries of the Oculina Bank HAPC. The locations of these sites were originally identified from NOAA regional bathymetric charts and later verified with multibeam sonar, a remotely operated vehicle (ROV) and submersible video surveys. The sonar maps and ROV dives confirmed that the high-relief features of the NOAA regional charts were high-relief Oculina coral mounds. Based on bathymetric charts, it is estimated that over 100 mounds exist in this area. Other observations include gentle slopes covered with coral rubble, standing dead coral, and sparse live Oculina coral colonies. Exposed hard bottom with 1 to 2 meter relief ledges was observed at the base of some mounds. Between the mounds and west of the main reef track, the substrate is mostly soft sediment but patchy rock pavement habitat and coral rubble are also present. Multibeam sonar maps made in 2002 and 2005 revealed numerous high-relief coral mounds and hard bottom habitat that are west of the western Oculina Bank HAPC boundary. A few of these mounds are comprised mostly of coral rubble, with live and standing dead Oculina. During its 2011 October meeting, the Coral Advisory Panel recommended the Council revisit the boundaries of the Oculina Bank HAPC, Stetson-Miami Terrace Coral HAPC, and the Cape Lookout Coral HAPC to incorporate these areas of additional deepwater coral habitat that were previously uncharacterized. The Council determined that, based on the information provided, extension of the HAPCs was appropriate. The NMFS Southeast Fisheries Science Center reviewed the amendment and certified that it was based on the best scientific information available. NMFS agrees with that determination.

Comment 14: It is not appropriate for anchors or drag nets to be used in the HAPCs but fishing with hook-and-line gear should be allowed, because research has shown hook-and-line fishing does not create any lasting damage to bottom habitat.

Response: Hook-and-line fishing without anchoring in the HAPCs will not be restricted by this amendment. The management measures contained in this final rule are intended to protect deepwater coral ecosystems from gear than may impact coral. Within the existing HAPCs, the use of bottom longline, bottom trawl, dredge, pot, or trap, as well as the use of an anchor, anchor and chain, or grapple and chain if on board a fishing vessel is prohibited. The use of mid-water trawl gear is also prohibited in the Coral HAPCs. Fishing for or possessing rock shrimp or Oculina coral is also prohibited within the Oculina Bank HAPC (this rule will allow transit through the Oculina Bank HAPC for rock shrimp fishermen with rock shrimp onboard their vessel), and fishing for or possessing coral is prohibited on board a fishing vessel in the Coral HAPCs.

Comment 15: The coordinates (latitude and longitude) published in the proposed rule for the Oculina Bank HAPC extension do not match any of the figures in the amendment used to illustrate the boundaries. The Council has never seen a good illustration of the area where the rock shrimp vessels operate and the historical fishing grounds (indicated by VMS points) that are being eliminated.

Response: The coordinates in the amendment and the rule differ slightly in the way they are listed but do not differ functionally. In the amendment, the latitude and longitude in the figures are in degrees and decimal minutes, and were converted to degrees, minutes, and seconds in the proposed and final rules. This conversion was necessary to remain consistent with the coordinates contained in the regulations for the other CHAPCs. Also, in the amendment, the coordinates listed identify the expanded area rather than the entire Oculina Bank HAPC, while the proposed rule lists the coordinates for the entire Oculina Bank HAPC, including the new expanded area. Figures S-4 and S-6 in Amendment 8 illustrate the northern and western extensions of the Oculina Bank HAPC, and illustrate the VMS points showing fishing by rock shrimp vessels operating in that area. The Council had sufficient information to make its decision when they approved Amendment 8. NMFS will work with the Council to improve the illustrations in future amendments.

Comment 16: Instead of expanding the Oculina Bank HAPC, studies should be done on increased algae growth on the south end of the Oculina Bank.

Response: The purpose of Amendment 8 is to increase protections for deepwater coral based on new information of deepwater coral resources in the South Atlantic. Studies of algae growth in Oculina Bank are outside the scope of this amendment. There is currently no information on increased algae growth in Oculina Bank, however, that is an area for potential research in the future.

Comment 17: It appears that the rock shrimp are moving northward due to changes in climate. The northern expansion of Oculina Bank HAPC will cut off access to historical northern shrimping grounds and will not protect coral.

Response: There are likely many factors that may explain the variability in rock shrimp abundance and distribution, and climate change may be one of the factors. Expansion of the Oculina Bank HAPC may have adverse effects on some individual businesses associated with the rock shrimp industry, but is expected to enhance protection to deepwater corals. The northern expansion of Oculina Bank HAPC is based on recent scientific information, which indicates deepwater coral ecosystems occur in the area. This expansion is expected to reduce historical fishing in the area by about 5 percent based on VMS data from 2007-2012.

Comment 18: Expansion of the Oculina Bank HAPC, Stetson-Miami Terrace Coral HAPC, and Cape Lookout Coral HAPC could have implications for green energy development and exploration in the future.

Response: NMFS has determined that any effects of expansion of the Oculina Bank HAPC, and the Stetson-Miami Terrace or Cape Lookout Coral HAPCs on the development of green energy or exploration would be speculative. The Oculina Bank HAPC, Stetson-Miami Terrace Coral HAPC, and Cape Lookout Coral HAPC have been designated as essential fish habitat (EFH) HAPCs by the Council to warrant special protection. Designation as EFH or an EFH-HAPC would require that Federal agencies consult with the NMFS Habitat Conservation Division, if a Federal agency determines its activity or action may adversely affect EFH or the EFH-HAPC.

Comment 19: There have been many problems with Amendment 8. For example, NMFS published a correction notice in the Federal Register on July 1, 2014, noting an error found in the preamble text for the proposed rule and the notice of availability for the amendment, with regard to the actual size of the proposed expansion of the Oculina HAPC.

Response: As explained in the Supplementary Information above, NMFS published correction notices during the comment period for Amendment 8 and the proposed rule on July 1, 2014 (79 FR 37270 and 79 FR 37269), to correct an inadvertent error regarding the proposed increased size of the Oculina Bank HAPC. The proposed rule and notice of availability for the amendment stated “the proposed rule would increase the size of the Oculina Bank HAPC by 405.42 square miles (1,050 square km), for a total area of 694.42 square miles (1,798.5 square km) . . .” This was incorrect. The correction notices explained that the proposed rule would increase the size of the Oculina Bank HAPC by 343.42 square miles (889.5 square km), for a total area of 632.42 square miles (1,638 square km).

Comment 20: Amendment 8 is not consistent with section 303(b)(2)(C)(iii) of the Magnuson-Steven Act, which requires that for any closed area, NMFS must ensure a timetable is established for review of the closed area's performance, consistent with the purposes of the closed area.

Response: Section 303(b)(2)(C)(iii) of the Magnuson-Steven Act is applicable when a closure prohibits all fishing. Because Amendment 8 does not prohibit all fishing, the requirements of section 303(b)(2)(C)(iii) of the Magnuson-Steven Act are not applicable. Although there are fishing gear restrictions in the existing HAPCs and expanded HAPCs, fishing would continue to be allowed in the HAPCs with the appropriate gear.

Changes From the Proposed Rule

Since publication of the proposed rule, NMFS Office for Law Enforcement (OLE) published a final rule to specify requirements related to approved VMS units, which describes the requirements for vendors wishing to provide VMS units for domestic fisheries (70 FR 77399, December 24, 2014). NMFS has now determined that the discussion of the VMS requirements in the proposed rule preamble and economic analysis for Coral Amendment 8 was incorrect. The preamble in the proposed rule stated that the proposed transit provisions would require that some VMS units would need to be replaced or would be required to have software/hardware upgrades to allow transit through the Oculina Bank HAPC with rock shrimp on board. Estimates of the costs of these upgrades were provided in the proposed rule. However, NMFS has since determined that the VMS units currently operating in the fishery are capable of signaling at a rate of at least 1 ping per 5 minutes, as is required by Amendment 8 and this rule.

Therefore, no replacement units or upgrades will likely be necessary for fishing vessels with rock shrimp on board that choose to transit through the Oculina Bank HAPC. As a result, the only costs associated with this final rule may be the increased communication charges if vessels choose to transit through the closed area with rock shrimp onboard. The maximum charge for any of the VMS units is $0.06 per ping, however, the total amount of increased communication charges per vessel cannot be determined because the total cost will depend on how often a vessel transits the Oculina Bank HAPC and the route the vessel chooses to take through the HAPC.

In addition, NMFS fixes a spelling mistake in this final rule. This rule changes the spelling of “Lithotherm” to “Lithoherm” in the name of the CHAPC “Stetson Reefs, Savannah and East Florida Lithoherms, and Miami Terrace Deepwater Coral HAPC” in 50 CFR 622.224(c)(1)(iii).

Classification

The Regional Administrator, Southeast Region, NMFS has determined that this final rule is necessary for the conservation and management of deepwater coral resources in the South Atlantic and is consistent with Amendment 8, the FMP, the Magnuson-Stevens Act, and other applicable law.

This final rule has been determined to be not significant for purposes of Executive Order 12866.

NMFS prepared a Final Regulatory Flexibility Analysis (FRFA) for this rule. The FRFA describes the economic impact this rule is expected to have on small entities. A description of the action, why it is being considered, and the legal basis for this action are contained at the beginning of this section in the preamble and in the SUMMARY section of the preamble. A copy of the full analysis is available from NMFS (see ADDRESSES). A summary of the analysis follows.

The purpose of this rule is to address recent discoveries of deepwater coral resources and protect deepwater coral ecosystems in the Council's jurisdiction from activities that could compromise their condition. The Magnuson-Stevens Act provides the statutory basis for this rule.

Comments on the proposed rule are addressed in the comments and responses section of this final rule and the changes to the final rule are discussed in the changes from the proposed rule section of this final rule. No changes were made to the rule in response to these comments.

This rule does not include any reporting or record-keeping requirements other than those associated with the VMS requirements discussed below.

This rule is expected to directly apply up to 700 vessels that commercially harvest snapper-grouper species and up to 104 vessels that commercially harvest rock shrimp in the affected areas of the exclusive economic zone (EEZ) in the South Atlantic. Among the vessels that harvest rock shrimp, an estimated 9 vessels also harvest royal red shrimp. Although potentially all vessels in the snapper-grouper commercial sector could potentially be affected, the number of vessels that actually fish in the affected areas is expected to be small, as evidenced by the minimal economic effects expected to occur as a result of this rule (described below). The average vessel involved in commercial snapper-grouper harvest is estimated to earn approximately $28,700 (2012 dollars) in annual gross revenue, and the average vessel permitted to harvest rock shrimp is estimated to earn approximately $20,500 (2012 dollars) in annual rock shrimp gross revenue. The average annual gross revenue for vessels that harvest both rock shrimp and royal red shrimp is estimated to be approximately $113,000 (2012 dollars). However, although there are an estimated 104 vessels permitted to harvest rock shrimp, the number of vessels that actually harvest rock shrimp in the South Atlantic is substantially less. Over the period 2009-2011, only 31, 19, and 18 vessels harvested rock shrimp in the South Atlantic in these years, respectively. Based on sample data from these vessels (10 vessels in 2009, 7 vessels in 2010, and 9 vessels in 2011), the average annual total revenue from all fishing activity during these years was approximately $334,000 (2012 dollars) in 2009, $725,000 in 2010, and $629,000 in 2011. More recent data are not available. NMFS has not identified any other small entities that would be expected to be directly affected by this rule.

The Small Business Administration (SBA) has established size criteria for all major industry sectors in the United States including seafood dealers and harvesters. A business involved in commercial finfish fishing is classified as a small business if it is independently owned and operated, is not dominant in its field of operation (including its affiliates), and has combined annual receipts not in excess of $20.5 million (NAICS code 114111, Finfish Fishing). The receipts threshold for a business involved in shrimp fishing is $5.5 million (NAICS code 114112, Shellfish Fishing). Because the average annual gross revenues for the commercial fishing operations expected to be directly affected by this rule are significantly less than the SBA revenue threshold, all these businesses are believed to be small business entities.

This rule contains four separate actions. The first action expands the boundaries of the Oculina Bank HAPC by 343.42 square miles (889.5 square km), for a total area of 632.42 square miles (1,638 square km). Expansion of the Oculina Bank HAPC is expected to affect vessels that harvest snapper-grouper, rock shrimp, and royal red shrimp because some fishermen have historically harvested these species in this area and will be prevented by the expansion from continuing to fish here. The expected maximum potential reduction in total gross revenue from snapper-grouper species as a result of the expansion of the Oculina Bank HAPC is approximately $56,000 (2012 dollars), or less than 0.3 percent of the total average annual revenue received by South Atlantic commercial fishing vessels from snapper-grouper species. The expected maximum potential reduction in revenue from snapper-grouper species is minimal, and fishermen may be able to absorb the reduction or adapt their fishing practices to the expansion of the Oculina Bank HAPC and increase their fishing effort, and harvest, in other locations to mitigate the impact of the reduction. Additionally, fishermen may benefit from spill-over effects (increased total harvest or more cost-efficient harvest) of the enhanced productivity of the protected Oculina Bank HAPC.

All vessels that harvest royal red shrimp are expected to also harvest rock shrimp. Royal red shrimp are not managed in a fishery management plan by the Council, therefore, neither logbooks nor VMS units are required to harvest royal red shrimp. As a result, NMFS cannot determine with available data what portion of the average annual royal red shrimp harvest may be affected by the expansion of the Oculina Bank HAPC. However, the primary effect of the expansion of the Oculina Bank HAPC is expected to be on the harvest of rock shrimp and not the harvest of royal red shrimp. This rule is expected to reduce the total revenue from rock shrimp for all potentially affected rock shrimp fishermen by a maximum of approximately $189,500 (2012 dollars).

Translating this expected reduction in total revenue to an average reduction per vessel is difficult because of the variability in participation in the fishery from year-to-year, as well as variability in revenue. As discussed above, significantly more vessels are permitted to harvest rock shrimp (104 vessels) than harvest rock shrimp (18-31 vessels, 2009-2011). Compared to the performance in each of the years 2009-2011, the expected annual total reduction in revenue from rock shrimp as a result of the Oculina Bank HAPC expansion would be approximately 1.8 percent of the total average annual gross revenue based on 2009 performance (reduction of approximately $6,100 per vessel compared to total average revenue of $334,000; 2012 dollars), 1.4 percent based on 2010 performance (reduction of approximately $10,000 per vessel compared to total average revenue of $725,000; 2012 dollars), and 1.7 percent based on 2011 performance (reduction of approximately $10,500 per vessel compared to total average revenue of $629,000; 2012 dollars). Overall, although the reduction in rock shrimp revenue as a result of the Oculina Bank HAPC expansion may be more than projected, rock shrimp accounted for only 27 percent, 22 percent, and 13 percent of total fishing revenue each year over the period 2009, 2010, and 2011 for vessels harvesting South Atlantic rock shrimp, respectively. Penaeid shrimp were the highest revenue species in each of these years. Thus, on average, although the revenue from rock shrimp comprises a substantial portion of total annual revenue, available data indicate that rock shrimp fishermen are more dependent on other species than rock shrimp. Although the revenue from royal red shrimp also may be affected, the economic effects of the proposed expansion of the Oculina Bank HAPC on vessels that harvest royal red shrimp are expected to be minor.

The second action establishes transit provisions through the Oculina Bank HAPC for a vessel with rock shrimp on board. This rule will allow transit through the Oculina Bank HAPC by a vessel with rock shrimp on board if the vessel maintains a direct and non-stop continuous course at a minimum speed of 5 knots (as determined by an operating VMS approved for the South Atlantic rock shrimp fishery and the VMS onboard the vessel registers a VMS ping (signal) rate of 1 ping per 5 minutes), and the vessel's gear is appropriately stowed (i.e., doors and nets will be required to be out of water and onboard the deck or below the deck of the vessel). At the time of publication of the proposed rule, NMFS expected that this VMS ping rate, which is more frequent than that currently required, would result in increased costs for vessels choosing to transit. These costs would be associated with the purchase of new VMS units for vessels with units unable to ping at the higher rate (22 vessels), upgrade of units that could ping at the higher rate if upgraded (57 vessels), and increased communication costs (all vessels). These increased costs were estimated to range from approximately $2,795 to $3,595 for the purchase and installation of a new VMS unit and approximately $300 per vessel for VMS unit upgrades and associated shipping costs. Increased communication costs were not estimated because they would depend on the frequency of transit and, in some cases, would only increase if the resultant total number of pings exceeded a pre-paid threshold. The maximum communication charge that has been identified is $0.06 per ping and the number of pings per transit should be minimal if a vessel takes the most direct path through the Oculina Bank HAPC.

Subsequent to publication of the proposed rule, however, NMFS determined that all of the VMS units operated by the affected rock shrimp vessels are capable of communicating at the higher ping rate. As a result, no vessel that desires to transit through the Oculina Bank HAPC with rock shrimp on board will be required to purchase a new VMS unit or acquire an upgrade and the only change in costs will be an increase in communication costs. Despite this increase in communication costs, any increase will be voluntarily incurred because the rule will not require that vessels transit the Oculina Bank HAPC with rock shrimp on board. The net economic effect per entity of transiting is expected to be positive. Transit through the Oculina Bank HAPC is expected to reduce operating expenses by allowing a vessel to avoid time-consuming and costly travel around the area with rock shrimp onboard. Also, revenue may be increased if a reduction in travel time allows longer fishing. Overall, a fisherman will only choose to incur the increased VMS communication costs associated with transit if they conclude they will receive a net increase in economic benefits, regardless of the source of these benefits. As a result, this component of the rule is expected to have a direct positive economic effect on all affected small entities.

Combined, the expected effects of the expansion of the Oculina Bank HAPC and transit provisions for vessels with rock shrimp on board are expected to range from a minor short term reduction in the average annual gross revenue from rock shrimp to a net positive economic effect on the average rock shrimp vessel. Although the expansion of the Oculina Bank HAPC is expected to reduce rock shrimp revenue from this area, the transit provisions are expected to reduce operating costs and potentially increase rock shrimp revenue by allowing more time to harvest rock shrimp from other areas, where permitted.

The third action in this rule will expand the boundaries of the Stetson-Miami Terrace CHAPC by 490 square miles (1,269 square km), for a total area of 24,018 square miles (62,206 square km). Fishing for snapper-grouper species does not occur normally in this area and fishing for other finfish or golden crab will not be expected to be affected by the expansion of the Stetson-Miami Terrace CHAPC. This action will also establish a gear haul back/drift zone to accommodate the royal red shrimp fishery that occurs in this area. As a result, this component of the rule is not expected to reduce the revenue of any small entities.

The fourth action will expand the boundaries of the Cape Lookout CHAPC by 10 square miles (26 square km), for a total area of 326 square miles (844 square km). Similar to the expansion of the Stetson-Miami Terrace CHAPC, fishing for snapper-grouper species does not occur normally in this area and fishing for other finfish or golden crab is not expected to be affected because of the small size of the expansion and availability of nearby areas with similar fishable habitat for these species. As a result, this component of the rule is not expected to reduce the revenue of any small entities.

Among the actions in this rule, only the expansion of the Oculina Bank HAPC is expected to directly reduce the revenue of any small entities. Four alternatives, including the no action status quo alternative, were considered for the expansion of the Oculina Bank HAPC. Two of these alternatives are included in this rule. The no action alternative was not adopted because it would not have achieved the objective of increasing the protection of deepwater coral ecosystems in the Council's jurisdiction. The second alternative would have increased the area of expansion and, as a result, would result in a larger reduction in fishing revenue to directly affected small entities than this rule. Because the other actions considered in this rule (actions 2-4) would not be expected to result in any negative economic effects on any directly affected small entities, the issue of significant alternatives to reduce any significant negative effects is not relevant.

This final rule contains collection-of-information requirements subject to the Paperwork Reduction Act (PRA), which have been approved by the Office of Management and Budget (OMB) under control number 0648-0205. Since 2003, NMFS has required VMS be installed and maintained on commercially permitted South Atlantic rock shrimp vessels. NMFS estimates the increased VMS ping (signal) rate that would be required would result in increased communication costs for vessels that choose to transit through the Oculina Bank HAPC with rock shrimp onboard. Currently, all vessels actively participating in the rock shrimp fishery have a VMS unit and NMFS has determined that all of those VMS units have the capability to ping at the higher rate. NMFS estimates the increased VMS communications costs for vessels in the rock shrimp fishery that choose to transit through the Oculina Bank HAPC with rock shrimp onboard would be a maximum known cost of $0.06 per ping; however, the total increased communications charges per vessel per year cannot be determined because these costs will depend on how often the vessel transits through the Oculina Bank HAPC. The increased communication costs will be offset by reduced travel costs associated with travel around the HAPC to get to and from the fishing grounds. Allowing transit should increase the amount of time on a trip available for fishing and save on fuel and other vessel maintenance costs. Therefore, there is zero net change in burden costs for this data collection.

These estimates of the public reporting burden include the time for reviewing instructions, gathering and maintaining the data needed, and completing and reviewing the collection-of-information.

Notwithstanding any other provision of law, no person is required to respond to, nor shall a person be subject to a penalty for failure to comply with, a collection-of-information subject to the requirements of the PRA, unless that collection-of-information displays a currently valid OMB control number.

Section 212 of the Small Business Regulatory Enforcement Fairness Act of 1996 states that, for each rule or group of related rules for which an agency is required to prepare a FRFA, the agency shall publish one or more guides to assist small entities in complying with the rule, and shall designate such publications as small entity compliance guides. As part of the rulemaking process, NMFS prepared a fishery bulletin, which also serves as a small entity compliance guide. The fishery bulletin will be sent to all South Atlantic snapper-grouper and South Atlantic rock shrimp vessel permit holders.

List of Subjects in 50 CFR Part 622

Coral, CHAPC, Coral reefs, Fisheries, Fishing, Reporting and recordkeeping requirements, HAPC, Shrimp, South Atlantic.

Dated: July 14, 2015.
Samuel D. Rauch III,
Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.224, paragraphs (b)(1), (c)(1)(i), (c)(1)(iii), (c)(3)(i), (c)(3)(ii), (c)(3)(iii), and (c)(3)(iv) are revised to read as follows:

§ 622.224 Area closures to protect South Atlantic corals.

* * * * *

(b) Oculina Bank—(1) HAPC. The Oculina Bank HAPC is bounded by rhumb lines connecting, in order, the following points:

Point | North lat. | West long.
Origin | 29°43′29.82″ | 80°14′55.27″
1 | 29°43′30″ | 80°15′48.24″
2 | 29°34′51.66″ | 80°15′00.78″
3 | 29°34′07.38″ | 80°15′51.66″
4 | 29°29′24.9″ | 80°15′15.78″
5 | 29°09′32.52″ | 80°12′17.22″
6 | 29°04′45.18″ | 80°10′12″
7 | 28°56′01.86″ | 80°07′53.64″
8 | 28°52′44.4″ | 80°07′53.04″
9 | 28°47′28.56″ | 80°07′07.44″
10 | 28°46′13.68″ | 80°07′15.9″
11 | 28°41′16.32″ | 80°05′58.74″
12 | 28°35′05.76″ | 80°05′14.28″
13 | 28°33′50.94″ | 80°05′24.6″
14 | 28°30′51.36″ | 80°04′23.94″
15 | 28°30′00″ | 80°03′57.3″
16 | 28°30′ | 80°03′
17 | 28°16′ | 80°03′
18 | 28°04′30″ | 80°01′10.08″
19 | 28°04′30″ | 80°00′
20 | 27°30′ | 80°00′
21 | 27°30′ | 79°54″—Point corresponding with intersection with the 100-fathom (183-m) contour, as shown on the latest edition of NOAA chart 11460
Note: Line between point 21 and point 22 follows the 100-fathom (183-m) contour, as shown on the latest edition of NOAA chart 11460
22 | 28°30′00″ | 79°56′56″— Point corresponding with intersection with the 100-fathom (183-m) contour, as shown on the latest edition of NOAA chart 11460
23 | 28°30′00″ | 80°00′46.02″
24 | 28°46′00.84″ | 80°03′28.5″
25 | 28°48′37.14″ | 80°03′56.76″
26 | 28°53′18.36″ | 80°04′48.84″
27 | 29°11′19.62″ | 80°08′36.9″
28 | 29°17′33.96″ | 80°10′06.9″
29 | 29°23′35.34″ | 80°11′30.06″
30 | 29°30′15.72″ | 80°12′38.88″
31 | 29°35′55.86″ | 80°13′41.04″
Origin | 29°43′29.82″ | 80°14′55.27″

(i) In the Oculina Bank HAPC, no person may:

(A) Use a bottom longline, bottom trawl, dredge, pot, or trap.

(B) If aboard a fishing vessel, anchor, use an anchor and chain, or use a grapple and chain.

(C) Fish for or possess rock shrimp in or from the Oculina Bank HAPC, except a shrimp vessel with a valid commercial vessel permit for rock shrimp that possesses rock shrimp may transit through the Oculina Bank HAPC if fishing gear is appropriately stowed. For the purpose of this paragraph, transit means a direct and non-stop continuous course through the area, maintaining a minimum speed of five knots as determined by an operating VMS and a VMS minimum ping rate of 1 ping per 5 minutes; fishing gear appropriately stowed means that doors and nets are out of the water and onboard the deck or below the deck of the vessel.

(ii) [Reserved]

* * * * *

(c) * * *

(1) * * *

(i) Cape Lookout Lophelia Banks is bounded by rhumb lines connecting, in order, the following points:

Point | North lat. | West long.
Origin | 34°24′36.996″ | 75°45′10.998″
1 | 34°23′28.998″ | 75°43′58.002″
2 | 34°27′00″ | 75°41′45″
3 | 34°27′54″ | 75°42′45″
Origin | 34°24′36.996″ | 75°45′10.998″

* * * * *

(iii) Stetson Reefs, Savannah and East Florida Lithoherms, and Miami Terrace (Stetson-Miami Terrace) is bounded by—

(A) Rhumb lines connecting, in order, the following points:

Point | North lat. | West long.
Origin | at outer boundary of EEZ | 79°00′00″
1 | 31°23′37″ | 79°00′00″
2 | 31°23′37″ | 77°16′21″
3 | 32°38′37″ | 77°16′21″
4 | 32°38′21″ | 77°34′06″
5 | 32°35′24″ | 77°37′54″
6 | 32°32′18″ | 77°40′26″
7 | 32°28′42″ | 77°44′10″
8 | 32°25′51″ | 77°47′43″
9 | 32°22′40″ | 77°52′05″
10 | 32°20′58″ | 77°56′29″
11 | 32°20′30″ | 77°57′50″
12 | 32°19′53″ | 78°00′49″
13 | 32°18′44″ | 78°04′35″
14 | 32°17′35″ | 78°07′48″
15 | 32°17′15″ | 78°10′41″
16 | 32°15′50″ | 78°14′09″
17 | 32°15′20″ | 78°15′25″
18 | 32°12′15″ | 78°16′37″
19 | 32°10′26″ | 78°18′09″
20 | 32°04′42″ | 78°21′27″
21 | 32°03′41″ | 78°24′07″
22 | 32°04′58″ | 78°29′19″
23 | 32°06′59″ | 78°30′48″
24 | 32°09′27″ | 78°31′31″
25 | 32°11′23″ | 78°32′47″
26 | 32°13′09″ | 78°34′04″
27 | 32°14′08″ | 78°34′36″
28 | 32°12′48″ | 78°36′34″
29 | 32°13′07″ | 78°39′07″
30 | 32°14′17″ | 78°40′01″
31 | 32°16′20″ | 78°40′18″
32 | 32°16′33″ | 78°42′32″
33 | 32°14′26″ | 78°43′23″
34 | 32°11′14″ | 78°45′42″
35 | 32°10′19″ | 78°49′08″
36 | 32°09′42″ | 78°52′54″
37 | 32°08′15″ | 78°56′11″
38 | 32°05′00″ | 79°00′30″
39 | 32°01′54″ | 79°02′49″
40 | 31°58′40″ | 79°04′51″
41 | 31°56′32″ | 79°06′48″
42 | 31°53′27″ | 79°09′18″
43 | 31°50′56″ | 79°11′29″
44 | 31°49′07″ | 79°13′35″
45 | 31°47′56″ | 79°16′08″
46 | 31°47′11″ | 79°16′30″
47 | 31°46′29″ | 79°16′25″
48 | 31°44′31″ | 79°17′24″
49 | 31°43′20″ | 79°18′27″
50 | 31°42′26″ | 79°20′41″
51 | 31°41′09″ | 79°22′26″
52 | 31°39′36″ | 79°23′59″
53 | 31°37′54″ | 79°25′29″
54 | 31°35′57″ | 79°27′14″
55 | 31°34′14″ | 79°28′24″
56 | 31°31′08″ | 79°29′59″
57 | 31°30′26″ | 79°29′52″
58 | 31°29′11″ | 79°30′11″
59 | 31°27′58″ | 79°31′41″
60 | 31°27′06″ | 79°32′08″
61 | 31°26′22″ | 79°32′48″
62 | 31°24′21″ | 79°33′51″
63 | 31°22′53″ | 79°34′41″
64 | 31°21′03″ | 79°36′01″
65 | 31°20′00″ | 79°37′12″
66 | 31°18′34″ | 79°38′15″
67 | 31°16′49″ | 79°38′36″
68 | 31°13′06″ | 79°38′19″
70 | 31°11′04″ | 79°38′39″
70 | 31°09′28″ | 79°39′09″
71 | 31°07′44″ | 79°40′21″
72 | 31°05′53″ | 79°41′27″
73 | 31°04′40″ | 79°42′09″
74 | 31°02′58″ | 79°42′28″
75 | 31°01′03″ | 79°42′40″
76 | 30°59′50″ | 79°42′43″
77 | 30°58′27″ | 79°42′43″
78 | 30°57′15″ | 79°42′50″
79 | 30°56′09″ | 79°43′28″
80 | 30°54′49″ | 79°44′53″
81 | 30°53′44″ | 79°46′24″
82 | 30°52′47″ | 79°47′40″
83 | 30°51′45″ | 79°48′16″
84 | 30°48′36″ | 79°49′02″
85 | 30°45′24″ | 79°49′55″
86 | 30°41′36″ | 79°51′31″
87 | 30°38′38″ | 79°52′23″
88 | 30°37′00″ | 79°52′37.2″
89 | 30°37′00″ | 80°05′00″
90 | 30°34′6.42″ | 80°05′54.96″
91 | 30°26′59.94″ | 80°07′41.22″
92 | 30°23′53.28″ | 80°08′8.58″
93 | 30°19′22.86″ | 80°09′22.56″
94 | 30°13′17.58″ | 80°11′15.24″
95 | 30°07′55.68″ | 80°12′19.62″
96 | 30°00′00″ | 80°13′00″
97 | 30°00′9″ | 80°09′30″
98 | 30°03′00″ | 80°09′30″
99 | 30°03′00″ | 80°06′00″
100 | 30°04′00″ | 80°02′45.6″
101 | 29°59′16″ | 80°04′11″
102 | 29°49′12″ | 80°05′44″
103 | 29°43′59″ | 80°06′24″
104 | 29°38′37″ | 80°06′53″
105 | 29°36′54″ | 80°07′18″
106 | 29°31′59″ | 80°07′32″
107 | 29°29′14″ | 80°07′18″
108 | 29°21′48″ | 80°05′01″
109 | 29°20′25″ | 80°04′29″
110 | 29°08′00″ | 79°59′43″
111 | 29°06′56″ | 79°59′07″
112 | 29°05′59″ | 79°58′44″
113 | 29°03′34″ | 79°57′37″
114 | 29°02′11″ | 79°56′59″
115 | 29°00′00″ | 79°55′32″
116 | 28°56′55″ | 79°54′22″
117 | 28°55′00″ | 79°53′31″
118 | 28°53′35″ | 79°52′51″
119 | 28°51′47″ | 79°52′07″
120 | 28°50′25″ | 79°51′27″
121 | 28°49′53″ | 79°51′20″
122 | 28°49′01″ | 79°51′20″
123 | 28°48′19″ | 79°51′10″
124 | 28°47′13″ | 79°50′59″
125 | 28°43′30″ | 79°50′36″
126 | 28°41′05″ | 79°50′04″
127 | 28°40′27″ | 79°50′07″
128 | 28°39′50″ | 79°49′56″
129 | 28°39′04″ | 79°49′58″
130 | 28°36′43″ | 79°49′35″
131 | 28°35′01″ | 79°49′24″
132 | 28°30′37″ | 79°48′35″
133 | 28°14′00″ | 79°46′20″
134 | 28°11′41″ | 79°46′12″
135 | 28°08′02″ | 79°45′45″
136 | 28°01′20″ | 79°45′20″
137 | 27°58′13″ | 79°44′51″
138 | 27°56′23″ | 79°44′53″
139 | 27°49′40″ | 79°44′25″
140 | 27°46′27″ | 79°44′22″
141 | 27°42′00″ | 79°44′33″
142 | 27°36′08″ | 79°44′58″
143 | 27°30′00″ | 79°45′29″
144 | 27°29′04″ | 79°45′47″
145 | 27°27′05″ | 79°45′54″
146 | 27°25′47″ | 79°45′57″
147 | 27°19′46″ | 79°45′14″
148 | 27°17′54″ | 79°45′12″
149 | 27°12′28″ | 79°45′00″
150 | 27°07′45″ | 79°46′07″
151 | 27°04′47″ | 79°46′29″
152 | 27°00′43″ | 79°46′39″
153 | 26°58′43″ | 79°46′28″
154 | 26°57′06″ | 79°46′32″
155 | 26°49′58″ | 79°46′54″
156 | 26°48′58″ | 79°46′56″
157 | 26°47′01″ | 79°47′09″
158 | 26°46′04″ | 79°47′09″
159 | 26°35′09″ | 79°48′01″
160 | 26°33′37″ | 79°48′21″
161 | 26°27′56″ | 79°49′09″
162 | 26°25′55″ | 79°49′30″
163 | 26°21′05″ | 79°50′03″
164 | 26°20′30″ | 79°50′20″
165 | 26°18′56″ | 79°50′17″
166 | 26°16′19″ | 79°54′06″
167 | 26°13′48″ | 79°54′48″
168 | 26°12′19″ | 79°55′37″
169 | 26°10′57″ | 79°57′05″
170 | 26°09′17″ | 79°58′45″
171 | 26°07′11″ | 80°00′22″
172 | 26°06′12″ | 80°00′33″
173 | 26°03′26″ | 80°01′02″
174 | 26°00′35″ | 80°01′13″
175 | 25°49′10″ | 80°00′38″
176 | 25°48′30″ | 80°00′23″
177 | 25°46′42″ | 79°59′14″
178 | 25°27′28″ | 80°02′26″
179 | 25°24′06″ | 80°01′44″
180 | 25°21′04″ | 80°01′27″
181 | 25°21′04″ | at outer boundary of EEZ

(B) The outer boundary of the EEZ in a northerly direction from Point 181 to the Origin.

* * * * *

(3) * * *

(i) Shrimp access area 1 is bounded by rhumb lines connecting, in order, the following points:

Point | North lat. | West long.
Origin | 30°06′30″ | 80°02′2.4″
1 | 30°06′30″ | 80°05′39.6″
2 | 30°03′00″ | 80°09′30″
3 | 30°03′00″ | 80°06′00″
4 | 30°04′00″ | 80°02′45.6″
5 | 29°59′16″ | 80°04′11″
6 | 29°49′12″ | 80°05′44″
7 | 29°43′59″ | 80°06′24″
8 | 29°38′37″ | 80°06′53″
9 | 29°36′54″ | 80°07′18″
10 | 29°31′59″ | 80°07′32″
11 | 29°29′14″ | 80°07′18″
12 | 29°21′48″ | 80°05′01″
13 | 29°20′25″ | 80°04′29″
14 | 29°20′25″ | 80°03′11″
15 | 29°21′48″ | 80°03′52″
16 | 29°29′14″ | 80°06′08″
17 | 29°31′59″ | 80°06′23″
18 | 29°36′54″ | 80°06′00″
19 | 29°38′37″ | 80°05′43″
20 | 29°43′59″ | 80°05′14″
21 | 29°49′12″ | 80°04′35″
22 | 29°59′16″ | 80°03′01″
23 | 30°06′30″ | 80°00′53″
Origin | 30°06′30″ | 80°02′2.4″

(ii) Shrimp access area 2 is bounded by rhumb lines connecting, in order, the following points:

Point | North lat. | West long.
Origin | 29°08′00″ | 79°59′43″
1 | 29°06′56″ | 79°59′07″
2 | 29°05′59″ | 79°58′44″
3 | 29°03′34″ | 79°57′37″
4 | 29°02′11″ | 79°56′59″
5 | 29°00′00″ | 79°55′32″
6 | 28°56′55″ | 79°54′22″
7 | 28°55′00″ | 79°53′31″
8 | 28°53′35″ | 79°52′51″
9 | 28°51′47″ | 79°52′07″
10 | 28°50′25″ | 79°51′27″
11 | 28°49′53″ | 79°51′20″
12 | 28°49′01″ | 79°51′20″
13 | 28°48′19″ | 79°51′10″
14 | 28°47′13″ | 79°50′59″
15 | 28°43′30″ | 79°50′36″
16 | 28°41′05″ | 79°50′04″
17 | 28°40′27″ | 79°50′07″
18 | 28°39′50″ | 79°49′56″
19 | 28°39′04″ | 79°49′58″
20 | 28°36′43″ | 79°49′35″
21 | 28°35′01″ | 79°49′24″
22 | 28°30′37″ | 79°48′35″
23 | 28°30′37″ | 79°47′27″
24 | 28°35′01″ | 79°48′16″
25 | 28°36′43″ | 79°48′27″
26 | 28°39′04″ | 79°48′50″
27 | 28°39′50″ | 79°48′48″
28 | 28°40′27″ | 79°48′58″
29 | 28°41′05″ | 79°48′56″
30 | 28°43′30″ | 79°49′28″
31 | 28°47′13″ | 79°49′51″
32 | 28°48′19″ | 79°50′01″
33 | 28°49′01″ | 79°50′13″
34 | 28°49′53″ | 79°50′12″
35 | 28°50′25″ | 79°50′17″
36 | 28°51′47″ | 79°50′58″
37 | 28°53′35″ | 79°51′43″
38 | 28°55′00″ | 79°52′22″
39 | 28°56′55″ | 79°53′14″
40 | 29°00′00″ | 79°54′24″
41 | 29°02′11″ | 79°55′50″
42 | 29°03′34″ | 79°56′29″
43 | 29°05′59″ | 79°57′35″
44 | 29°06′56″ | 79°57′59″
45 | 29°08′00″ | 79°58′34″
Origin | 29°08′00″ | 79°59′43″

(iii) Shrimp access area 3 is bounded by rhumb lines connecting, in order, the following points:

Point | North lat. | West long.
Origin | 28°14′00″ | 79°46′20″
1 | 28°11′41″ | 79°46′12″
2 | 28°08′02″ | 79°45′45″
3 | 28°01′20″ | 79°45′20″
4 | 27°58′13″ | 79°44′51″
5 | 27°56′23″ | 79°44′53″
6 | 27°49′40″ | 79°44′25″
7 | 27°46′27″ | 79°44′22″
8 | 27°42′00″ | 79°44′33″
9 | 27°36′08″ | 79°44′58″
10 | 27°30′00″ | 79°45′29″
11 | 27°29′04″ | 79°45′47″
12 | 27°27′05″ | 79°45′54″
13 | 27°25′47″ | 79°45′57″
14 | 27°19′46″ | 79°45′14″
15 | 27°17′54″ | 79°45′12″
16 | 27°12′28″ | 79°45′00″
17 | 27°07′45″ | 79°46′07″
18 | 27°04′47″ | 79°46′29″
19 | 27°00′43″ | 79°46′39″
20 | 26°58′43″ | 79°46′28″
21 | 26°57′06″ | 79°46′32″
22 | 26°57′06″ | 79°44′52″
23 | 26°58′43″ | 79°44′47″
24 | 27°00′43″ | 79°44′58″
25 | 27°04′47″ | 79°44′48″
26 | 27°07′45″ | 79°44′26″
27 | 27°12′28″ | 79°43′19″
28 | 27°17′54″ | 79°43′31″
29 | 27°19′46″ | 79°43′33″
30 | 27°25′47″ | 79°44′15″
31 | 27°27′05″ | 79°44′12″
32 | 27°29′04″ | 79°44′06″
33 | 27°30′00″ | 79°43′48″
34 | 27°30′00″ | 79°44′22″
35 | 27°36′08″ | 79°43′50″
36 | 27°42′00″ | 79°43′25″
37 | 27°46′27″ | 79°43′14″
38 | 27°49′40″ | 79°43′17″
39 | 27°56′23″ | 79°43′45″
40 | 27°58′13″ | 79°43′43″
41 | 28°01′20″ | 79°44′11″
42 | 28°04′42″ | 79°44′25″
43 | 28°08′02″ | 79°44′37″
44 | 28°11′41″ | 79°45′04″
45 | 28°14′00″ | 79°45′12″
Origin | 28°14′00″ | 79°46′20″

(iv) Shrimp access area 4 is bounded by rhumb lines connecting, in order, the following points:

Point | North lat. | West long.
Origin | 26°49′58″ | 79°46′54″
1 | 26°48′58″ | 79°46′56″
2 | 26°47′01″ | 79°47′09″
3 | 26°46′04″ | 79°47′09″
4 | 26°35′09″ | 79°48′01″
5 | 26°33′37″ | 79°48′21″
6 | 26°27′56″ | 79°49′09″
7 | 26°25′55″ | 79°49′30″
8 | 26°21′05″ | 79°50′03″
9 | 26°20′30″ | 79°50′20″
10 | 26°18′56″ | 79°50′17″
11 | 26°18′56″ | 79°48′37″
12 | 26°20′30″ | 79°48′40″
13 | 26°21′05″ | 79°48′08″
14 | 26°25′55″ | 79°47′49″
15 | 26°27′56″ | 79°47′29″
16 | 26°33′37″ | 79°46′40″
17 | 26°35′09″ | 79°46′20″
18 | 26°46′04″ | 79°45′28″
19 | 26°47′01″ | 79°45′28″
20 | 26°48′58″ | 79°45′15″
21 | 26°49′58″ | 79°45′13″
Origin | 26°49′58″ | 79°46′54″

* * * * *

[FR Doc. 2015-17617 Filed 7-16-15; 8:45 am]

BILLING CODE 3510-22-P